DEPARTMENT OF AGRICULTURE

Animal and Plant Health Inspection Service

[Docket No. APHIS-2017-0090]

Addition of the Philippines to the List of Regions Affected by Highly Pathogenic Avian Influenza

AGENCY: Animal and Plant Health Inspection Service, USDA.

ACTION: Notice.

SUMMARY: We are advising the public that we are adding the Philippines to the list of regions that the Animal and Plant Health Inspection Service considers to be affected by highly pathogenic avian influenza (HPAI). This action follows our imposition of HPAI-related restrictions on avian commodities originating from or transiting the Philippines as a result of the confirmation of HPAI in the Philippines.

DATES: The Philippines was added to the list of regions under temporary restrictions on August 16, 2017. The Philippines is added to the list of regions considered to be affected by HPAI as of January 17, 2018.

FOR FURTHER INFORMATION CONTACT: Dr. Ingrid Kotowski, Regionalization Evaluation Services, National Import Export Services, VS, APHIS, 920 Main Campus Drive Suite 200, Raleigh, NC, 27606; (919) 855-7732; Ingrid.Kotowski@aphis.usda.gov.

SUPPLEMENTARY INFORMATION: The regulations in 9 CFR part 94 (referred to below as the regulations) govern the importation of certain animals and animal products into the United States to prevent the introduction of various animal diseases, including Newcastle disease and highly pathogenic avian influenza (HPAI). The regulations prohibit or restrict the importation of live poultry, poultry meat, and other poultry products from regions where these diseases are considered to exist.

Section 94.6 of part 94 of the regulations contains requirements governing the importation into the United States of carcasses, meat, parts or products of carcasses, and eggs (other than hatching eggs) of poultry, game birds, or other birds from regions of the world where HPAI exists or is reasonably believed to exist. HPAI is an extremely infectious and potentially fatal form of avian influenza in birds and poultry that, once established, can spread rapidly from flock to flock. A list of regions that the Animal and Plant Health Inspection Service (APHIS) considers affected with HPAI of any subtype is maintained on the APHIS website at https://www.aphis.usda.gov/aphis/ourfocus/animalhealth/animal-and-animal-product-import-information/ct-animal-disease-status.

APHIS receives notice of HPAI outbreaks from veterinary officials of the exporting country, from the World Organization for Animal Health (OIE), or from other sources the Administrator determines to be reliable. On August 11, 2017, the veterinary authorities of the Philippines reported to the OIE that HPAI occurrence in that country was confirmed on August 7, 2017. Subsequent to that report, and after confirming that the HPAI occurred in commercial birds or poultry, APHIS placed restrictions on the importation of poultry, commercial birds, other types of birds (research, performing), ratites, any avian hatching eggs, unprocessed avian products and byproducts, and certain fresh poultry products from the Philippines to mitigate risk of HPAI introduction into the United States. Those restrictions went into effect on August 7, 2017, the reported date of confirmation of the HPAI occurrence in the Philippines. With the publication of this notice, we are adding the Philippines to the list of regions APHIS considers affected with HPAI of any subtype.

Authority: 7 U.S.C. 450, 7701-7772, 7781-7786, and 8301-8317; 21 U.S.C. 136 and 136a; 31 U.S.C. 9701; 7 CFR 2.22, 2.80, and 371.4.

Done in Washington, DC, this 10th day of January 2018.
Kevin Shea,
Administrator, Animal and Plant Health Inspection Service.

[FR Doc. 2018-00696 Filed 1-16-18; 8:45 am]

BILLING CODE 3410-34-P